FEDERAL COMMUNICATIONS COMMISSION

Sunshine Act Meeting; Open Commission Meeting; Thursday, May 20, 2010

Date: May 13, 2010.

The Federal Communications Commission will hold an Open Meeting on the subjects listed below on Thursday, May 20, 2010, which is scheduled to commence at 10:30 a.m. in Room TW-C305, at 445 12th Street, SW., Washington, DC.

ITEM NO. | BUREAU | SUBJECT
1 | WIRELESS TELE-COMMUNICATIONS | TITLE: Implementation of Section 6002(b) of the Omnibus Budget Reconciliation Act of 1993; Annual Report and Analysis of Competitive Market Conditions with Respect to Mobile Wireless, including Commercial Mobile Services (WT Docket No. 09-66) SUMMARY: The Commission will consider the 14th edition of the Mobile Wireless Competition Report, analyzing the state of competition in the mobile industry by expanding upon previous FCC reports and considering the broader mobile wireless ecosystem.
2 | OFFICE OF ENGINEERING AND TECHNOLOGY | TITLE: Amendment of Part 27 of the Commission's Rules to Govern the Operation of Wireless Communications Services in the 2.3 GHz Band (WT Docket No. 07-293) and Establishment of Rules and Policies for the Digital Audio Radio Satellite Service in the 2310-2360 MHz Frequency Band (IB Docket No. 95-91 and GEN Docket No. 90-357, RM-8610) SUMMARY: The Commission will consider a Report and Order enabling robust mobile broadband use of 25 MHz of spectrum in the 2.3 GHz Wireless Communications Service (WCS) band while protecting neighboring incumbent operations and a Second Report and Order implementing rules for terrestrial repeaters to provide greater certainty for both satellite radio and WCS licensees.
3 | WIRELINE COMPETITION | TITLE: Schools and Libraries Universal Service Support Mechanism (CC Docket No. 02-6) and A National Broadband Plan for Our Future (GN Docket No. 09-51) SUMMARY: The Commission will consider a Notice of Proposed Rulemaking initiating reforms to the E-Rate program to make broadband more accessible in schools and libraries, and to cut red tape.
4 | WIRELINE COMPETITION | TITLE: Implementation of Section 224 of the Act (WC Docket No. 07-245) and A National Broadband Plan for Our Future (GN Docket No. 09-51) SUMMARY: The Commission will consider an Order and Further Notice of Proposed Rulemaking to implement the National Broadband Plan recommendations to foster competition and broadband deployment by ensuring nondiscriminatory, just, and reasonable access to utility poles.
5 | WIRELINE COMPETITION | TITLE: Local Number Portability Porting Interval and Validation Requirements (WC Docket No. 07-244) and Telephone Number Portability (CC Docket No. 95-116) SUMMARY: The Commission will consider a Report and Order to standardize the processes for transferring telephone numbers in one business day to ensure the benefits of competition for consumers.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Bulah P. Wheeler,
Acting Associate Secretary,
Office of the Secretary,
Office of Managing Director.

[FR Doc. 2010-11979 Filed 5-14-10; 4:15 pm]

BILLING CODE 6712-01-S